DEPARTMENT OF STATE

[Public Notice: 9417]

Notice of Public Meeting

The Department of State will conduct an open meeting at 9:30 a.m. on Wednesday, February 24, 2016, at the headquarters of the Radio Technical Commission for Maritime Services (RTCM) in Suite 605, 1611 N. Kent Street, Arlington, Virginia 22209. The primary purpose of the meeting is to prepare for the third Session of the International Maritime Organization's (IMO) Sub-Committee on Navigation, Communication, and Search and Rescue to be held at the IMO Headquarters, United Kingdom, from February 29 to March 4, 2016.

The agenda items to be considered include:

—Routing measures and mandatory ship reporting systems

—Amendment to the General Provisions on Ships' Routing (resolution A.572(14)) on establishing multiple structures at sea

—Recognition of Galileo as a component of the WWRNS

—Additional modules to the Revised Performance Standards for Integrated Navigations Systems (INS) (resolution MSC.252(83) relating to the harmonization of bridge design and display of information

—Updates to the LRIT system

—Guidelines associated with multi-system shipborne radionavigation receivers dealing with the harmonized provision of PNT data and integrity information

—Guidelines for the harmonized display of navigation information received via communications equipment

—Revised Guidelines and criteria for ship reporting systems (resolution MSC.43(64))

—Analysis of developments in maritime radiocommunication systems and technology

—Performance Standards for shipborne GMDSS equipment to accommodate additional providers of GMDSS satellite services

—Interconnection of NAVTEX and Inmarsat SafetyNET receivers and their display on Integrated Navigation Display Systems

—Completion of the detailed review of the Global Maritime Distress and Safety System (GMDSS)

—Updating of the GMDSS master plan and guidelines on MSI (maritime safety information) provisions

—Response to matters related to the Radiocommunication ITU R Study Group

—Response to matters related to ITU World Radiocommunication Conference

—Measures to protect the safety of persons rescued at sea

—Analysis of information on developments in Inmarsat and Cospas-Sarsat

—Revised Performance Standards for EPIRBs operating on 406 MHz (resolution A.810(19)) to include Cospas-Sarsat MEOSAR and second generation beacons

—Guidelines on harmonized aeronautical and maritime search and rescue procedures, including SAR training matters

—Further development of the Global SAR Plan for the provision of maritime SAR services

—Amendments to the IAMSAR Manual

—Revised guidelines for preparing plans for cooperation between search and rescue services and passenger ships (MSC.1/Circ.1079)

—Unified interpretation of provisions of IMO safety, security, and environment related Conventions

—Biennial status report and provisional agenda for NCSR 4

—Report to the Maritime Safety Committee

Members of the public may attend this meeting up to the seating capacity of the room. To facilitate the building security process, and to request reasonable accommodation, those who plan to attend should contact the meeting coordinator, George Detweiler, by email at George.H.Detweiler@uscg.mil, by phone at (202) 372-1566, or in writing at 2703 Martin Luther King Jr. Ave. SE., Stop 7418, Washington DC 20593-7418 not later than February 17, 2016. Requests made after February 17, 2016, might not be able to be accommodated. RTCM Headquarters is adjacent to the Rosslyn Metro Station. For further directions and lodging information, please see: http://www.rtcm.org/visit.php. Additional information regarding this and other public meetings related to the IMO may be found at: www.uscg.mil/imo.

Dated: January 15, 2016.
Jonathan W. Burby,
Coast Guard Liaison Officer, Office of Ocean and Polar Affairs, Department of State.

[FR Doc. 2016-01275 Filed 1-21-16; 8:45 am]

BILLING CODE 4710-09-P